DEPARTMENT OF THE INTERIOR

Bureau of Land Management

[212L1109AF.LLUTG00000.L12200000.DU0000.LXSSJ0730000]

Notice of Intent To Amend the Moab, Price, and Vernal Resource Management Plans and Prepare Environmental Assessments To Comply With the 2019 Dingell Act

AGENCY: Bureau of Land Management, Interior.

ACTION: Notice of intent.

SUMMARY: In compliance with the National Environmental Policy Act (NEPA) of 1969, as amended, and the Federal Land Policy and Management Act (FLPMA) of 1976, as amended, the Bureau of Land Management (BLM) intends to prepare up to six Environmental Assessments (EA) to amend the Resource Management Plans (RMP) for the Moab Field Office, Price Field Office, and Vernal Field Office, which were approved in 2008. By this notice, the BLM is announcing the beginning of the scoping process to solicit public comments and identify issues.

DATES: This Notice of Intent (NOI) initiates the public scoping process for up to six amendments and associated EAs affecting three RMPs and 10 Areas of Critical Environmental Concern (ACEC). The BLM requests comments concerning the scope of the analysis, planning criteria, potential alternatives, and identification of relevant information, studies, and analyses. All comments must be received in writing by November 29, 2021. The date(s) and location(s) of any scoping meetings will be announced at least 15 days in advance through local media outlets and the BLM websites at http://go.usa.gov/xV7yu and https://www.blm.gov/programs/planning-and-nepa/plans-in-development/utah/green-river-dingell-act. In order to be included in the analyses, all comments must be received prior to the close of the 30-day scoping period as described above or within 15 days after the last public scoping meeting, whichever is later. The BLM may later hold individual project scoping periods for each of the six amendments before the publication of the Draft RMP amendments/EAs for public comment, to be announced through the above websites.

ADDRESSES: Written comments may be sent to the BLM Green River District, 170 South 500 East, Vernal, Utah 84078. Comments may also be sent via email to blm_ut_vernal_comments@blm.gov or the ePlanning project specific websites. Documents pertinent to this project may be examined during regular business hours upon request using the email listed below.

FOR FURTHER INFORMATION CONTACT: For further information and/or to have your name added to the mailing list, contact Amber Koski, Planning and Environmental Coordinator, BLM Green River District, 170 South 500 East, Vernal, Utah 84078; email blm_ut_vernal_comments@blm.gov; telephone (435) 781-4465. Persons who use a telecommunications device for the deaf may call the Federal Relay Service (FRS) at 1-800-877-8339 to leave a message or question for the above individual. The FRS is available 24 hours a day, seven days a week. Replies are provided during normal business hours.

SUPPLEMENTARY INFORMATION: This action will ensure consistency with Public Law 116-9, the John D. Dingell, Jr. Conservation, Management, and Recreation Act's (Dingell Act), designation of Jurassic National Monument, John Wesley Powell National Conservation Area, McCoy Flats Trail System, three Green River Wild and Recreational River segments, San Rafael Swell Recreation Area and 14 surrounding Wilderness Area designations, and release of areas in Emery County from wilderness study and three adjacent Wilderness Area designations.

Purpose and Need for the Proposed Action

This document provides notice that the BLM Utah Moab Field Office, Price Field Office, and Vernal Field Office plan to prepare up to six amendments for each field office's associated RMPs to ensure compliance with applicable laws, policies, and regulations. The Dingell Act requires the BLM to develop either a comprehensive management plan (Jurassic National Monument) or a management plan (John Wesley Powell National Conservation Area, McCoy Flats Trail System, and San Rafael Swell Recreation Area) for the long-term protection and management of these areas. Similarly, Public Law 99-590, the Wild and Scenic Rivers Act Amendment of 1986 (WSR Act), requires the BLM to develop a management plan to provide for protection of the designated river values; therefore, an RMP amendment is being prepared for these designations. BLM RMPs are land use plans that establish goals and objectives to guide future land and resource management actions implemented by the BLM. Subsequent site-specific planning will occur to identify goals and objectives to develop on the ground management actions.

The approved RMP amendments will each contain an appendix that combines the land use planning decisions for the approved RMP amendment with any needed implementation guidance. This appendix will serve as the management plan required by the Dingell Act and the WSR Act. The RMP amendments will recognize valid existing rights. This notice also serves as a 30-day public scoping period for possible modification of existing ACEC boundaries within management plan areas for the Jurassic National Monument, San Rafael Swell Recreation Area and 14 surrounding Wilderness Areas, and release of areas in Emery County from wilderness study and three adjacent Wilderness Area designations pursuant to the Dingell Act. Following are the sections of the Dingell Act pertaining to the planned RMP amendments and how they relate to existing plan decisions:

RMP amendment 1: Section 1252 of the Dingell Act designates Jurassic National Monument (JNM) on 850 acres of public land in Emery County, Utah, also known as the Cleveland Lloyd Dinosaur Quarry (CLDQ). The Dingell Act specifies that the purpose of the JNM is to “conserve, interpret, and enhance for the benefit of present and future generations the paleontological, scientific, educational, and recreational resources of the area subject to valid existing rights[.]” The Price Field Office RMP currently manages the CLDQ under several special designations including a Special Recreation Management Area (SRMA), a National Natural Landmark, and the CLDQ ACEC. The CLDQ represents the densest collection of bones of Allosaurus fragilis, a large meat-eating dinosaur, and special management attention had been required to protect known and unknown paleontological resources located within the existing ACEC. This RMP amendment will reflect the Dingell Act's withdrawal of the Monument from public land laws, mining laws, mineral leasing laws, geothermal leasing laws, and mineral material laws in order to conserve, protect, and enhance the resources and values of the Monument. In addition, the RMP amendment may consider modifying the boundaries of the CLDQ ACEC and SRMA, and may update the Price Field Office RMP goals, objectives, and/or management actions for fire and drought, livestock grazing, paleontological resources, recreation resources, transportation, and/or other resources to ensure consistency with the purposes of the Dingell Act designation and BLM policy.

RMP amendment 2: Section 1118 of the Dingell Act designates the John Wesley Powell (JWP) National Conservation Area (NCA) on 29,868 acres of public land in Uintah County, Utah. The Dingell Act specifies that the purpose of the JWP NCA is to “conserve, protect, and enhance for the benefit of present and future generations the nationally significant historic, cultural, natural, scientific, scenic, recreational, archaeological, educational, and wildlife resources” of the NCA. The Vernal Field Office RMP currently describes management of the JWP NCA as the Diamond Mountain BLM Natural Area. The JWP NCA lies within a big game migration corridor, and current management is focused on conservation of habitat, wildlife, and access to backcountry recreation opportunities. This RMP amendment will reflect the Dingell Act's withdrawal of the NCA from public land laws, mining laws, mineral leasing laws, geothermal leasing laws, and mineral materials laws in order to conserve, protect, and enhance the resources of the JWP NCA. In addition, the RMP amendment may update the Vernal Field Office RMP goals, objectives, and/or management actions for abandoned mine lands, cultural resources, fire and fuels management, forage, livestock and grazing management, non-WSA (Wilderness Study Area) lands with wilderness characteristics, paleontological resources, rangeland improvements, recreation resources (i.e., special recreation management areas and trail maintenance and development), riparian resources, soil and water resources, special status species, travel management (i.e., roads and trails), vegetation, visual resource management, wildlife and fisheries, woodlands and forest resources, and/or other resources to ensure consistency with the purposes of the Dingell Act designation and BLM policy.

RMP amendment 3: Section 1115 of the Dingell Act designates the McCoy Flats Trail System (Trail System) on public land located near Vernal City in Uintah County, Utah. The Dingell Act specifies that the purpose for the Trail System is to provide new non-motorized mountain bike routes and trail construction to increase recreational opportunities within the area. The Trail System area is currently managed as public lands open to multiple use under the Vernal Field Office RMP, including but not limited to dispersed camping and mineral and right-of-way development. This RMP amendment will establish a boundary for the trail system and may update the Vernal Field Office RMP goals, objectives, and/or management actions for forage, lands and realty management, livestock and grazing management, minerals and energy resources (i.e., leasable minerals, locatable minerals, saleable minerals, and mineral materials), rangeland improvements, recreation resources (i.e., special recreation management areas and trail maintenance and development), special status species, travel management (i.e., roads and trails), vegetation, visual resource management, wildlife and fisheries, and/or other resources to ensure consistency with the purposes of the Dingell Act designation and BLM policy.

RMP amendment 4: Section 1241 of the Dingell Act designates a 63-mile segment of the Green River, through Emery County, Utah, as a Wild and Scenic River. The Dingell Act specifies that the purpose of the Green River Wild and Scenic River is to manage the 5.3-mile segment from the boundary of the Uintah and Ouray Reservation south to the Nefertiti boat ramp as a wild river; the 8.5-mile segment from the Nefertiti boat ramp south to the Swasey's boat ramp as a recreational river; and the 49.2-mile segment from Bull Bottom, south to the county line between Emery and Wayne Counties, as a scenic river. The Moab Field Office and Price Field Office RMPs currently describe management of the area as suitable for wild, recreational, and scenic river management. This RMP amendment will reflect the Wild and Scenic River Act's withdrawal of the designated segments from public land laws, mining laws, mineral leasing laws, geothermal leasing laws, and mineral material laws in order to provide for the protection of the river values. In addition, the RMP amendment will establish the final boundary for the river segments, and may update the Moab Field Office and Price Field Office RMP goals, objectives, and/or management actions for soil, water, riparian, vegetation, cultural resources, paleontological resources, visual resources management, special status species, fish and wildlife, fuels management, fire and drought, livestock grazing, recreation and off-highway vehicles, special designations (i.e., WSAs and wild and scenic rivers), transportation, and/or other resources to ensure consistency with the purposes of the Dingell Act designation and BLM policy.

RMP amendment 5: Sections 1221 and 1222 of the Dingell Act designate the San Rafael Swell Recreation Area (Recreation Area), a unit encompassing approximately 217,000 acres of public land in Emery County, Utah. The Dingell Act specifies that the purpose for the Recreation Area is “to provide for the protection, conservation, and enhancement of the recreational, cultural, natural, scenic, wildlife, ecological, historical, and educational resource values” of the location. The Dingell Act Section 1231 designated the following Wilderness Areas surrounding the San Rafael Swell Recreation Area: Big Wild Horse Mesa, Cold Wash, Devil's Canyon, Eagle Canyon, Horse Valley, Little Ocean Draw, Little Wild Horse Canyon, Lower Last Chance, Mexican Mountain, Middle Wild Horse Mesa, Muddy Creek, Red's Canyon, San Rafael Reef, and Sid's Mountain. Under the Price Field Office RMP, the Recreation Area and surrounding Wilderness Areas currently include several special designations including eight ACECs (listed below) and the San Rafael SRMA. The Recreation Area also includes public land open to multiple use, including but not limited to dispersed camping and mineral and right-of-way development. This RMP amendment will reflect the Dingell Act's withdrawal of the Recreation Area and Wilderness Areas from public land laws, mining laws, mineral leasing laws, geothermal leasing laws, and mineral material laws for the protection of the wilderness character of the land. In addition, the RMP amendment may consider modifying or removing the boundaries of the San Rafael SRMA and the following ACECs: Uranium Mining Districts (Hidden Splendor, Lucky Strike, and Little Susan Mine), Heritage Sites (Copper Globe, Hunt Cabin, Smith Cabin, Shepherd's End, Swasey's Cabin, and Temple Mountain), Rock Art Sites (Cottonwood Canyon, Pictographs, and Wild Horse), Seger's Hole, San Rafael Reef, I-70 Scenic Corridor, San Rafael Canyon, and Muddy Creek. Finally, the RMP amendment may update the Price Field Office RMP goals, objectives, and/or management actions for soil, water, riparian, vegetation, cultural resources, paleontological resources, visual resources management, special status species, fish and wildlife, fuels management, fire and drought, forestry and woodland products, livestock grazing, non-WSA lands with wilderness characteristics, recreation and off-highway vehicles, special designations (i.e., WSAs and national trails and backways), transportation, and/or other resources to ensure consistency with the purposes of the Dingell Act designations, the Dingell Act WSA release, and BLM policy. For the released WSAs outside of the Recreation Area and the Wilderness Areas, the RMP amendment may also update the Price Field Office RMP goals, objectives, and/or management actions for lands and realty, mineral and energy resources, locatable minerals, saleable minerals, and mineral materials.

RMP amendment 6: Section 1231 of the Dingell Act designated the following Wilderness Areas adjacent to the Green River: Desolation Canyon, Labyrinth Canyon, and Turtle Canyon. Section 1234 releases 4,400 acres of existing wilderness study areas near the Turtle Canyon Wilderness, and releases 2,200 acres of existing wilderness study areas near Desolation Canyon. This RMP amendment will reflect the Dingell Act's withdrawal of the Wilderness Areas from public land laws, mining laws, mineral leasing laws, geothermal leasing laws, and mineral material laws for the protection of the wilderness character of the land. The Price Field Office RMP currently manages the area as WSA and the Bowknot ACEC. The RMP amendment may update the Price Field Office RMP goals, objectives, and/or management actions for soil, water, riparian, vegetation, cultural resources, paleontological resources, visual resources management, special status species, fish and wildlife, fuels management, fire and drought, forestry and woodland products, livestock grazing, non-WSA lands with wilderness characteristics, recreation and off- highway vehicles, special designations (i.e., WSAs and national trails and backways), transportation, and/or other resources, and may consider modifying or removing the Bowknot ACEC to ensure consistency with the purposes of the Dingell Act designations, the Dingell Act WSA release, and BLM policy. For the released WSAs, the RMP amendment may also update the Price Field Office RMP goals, objectives, and/or management actions for lands and realty, mineral and energy resources, locatable minerals, saleable minerals, and mineral materials.

Preliminary Proposed Actions and Alternatives

No Action Alternative

Under the No Action Alternative, management of the designated areas would continue to follow the decisions of the existing Moab Field Office, Price Field Office, and Vernal Field Office RMPs. Under this alternative, the outcomes for the designations in the Dingell Act would likely not be achieved.

Proposed Action

The BLM will review current RMP outcomes and modify goals and objectives to meet outcomes described in the Dingell Act. The BLM will develop legal descriptions and refinements as needed to boundaries established by the Dingell Act and modify or remove any unnecessary land use designations established under the current RMPs. The BLM will modify, add, or remove current RMP allowable uses to meet the outcomes described in the Dingell Act and reduce resource conflicts. The BLM will modify or remove current RMP management actions and develop new actions to meet the outcomes described in the Dingell Act.

Summary of Expected Impacts

The BLM will develop a list of specific issues for which an interdisciplinary team will analyze the impacts of each RMP amendment. Generally, issues will focus on the difference between the Dingell Act's designations, including desired outcomes and existing or absent RMP direction. These differences will likely center around recreation use, visual resource management, motorized and non-motorized travel, mineral development, etc. Specific issues will be discussed during public involvement for each amendment.

Anticipated Permits and Authorizations

No permits or authorizations are anticipated to be required under any alternative.

Schedule for the Decision-Making Process

This NOI announces a public scoping period for all six RMP amendments and the need for potential changes to existing ACECs to conform with the Dingell Act. The BLM may also hold future individual project scoping periods before the publication of Draft RMP amendments/EAs for public comment.

Public Scoping Process

This NOI initiates the public scoping process which guides development of the RMP amendments and EAs. The BLM requests that the public submit electronically or in writing any information, alternatives, or concerns relevant to one or more of the RMP amendments that the BLM should consider during the planning process. Comments may be submitted in writing to the BLM at any public scoping meeting, or they may be submitted to the BLM using one of the methods listed in the ADDRESSES section above. Interested parties may submit comments by the close of the 30-day scoping period or within 15 days after the last public meeting, whichever is later. The BLM will use the NEPA scoping process to fulfill the public involvement process under section 106 of the National Historic Preservation Act (54 U.S.C. 306108) as provided in 36 CFR 800.2(d)(3) and the public involvement requirements of the Dingell Act. The date(s) and location(s) for any public scoping meetings will be announced at least 15 days in advance though local media outlets, and on the BLM's project website(s) at http://go.usa.gov/xV7yu and https://www.blm.gov/programs/planning-and-nepa/plans-in-development/utah/green-river-dingell-act.

Before including your address, phone number, email address, or other personal identifying information in your comment, you should be aware that your entire comment—including your personal identifying information—may be made publicly available at any time. While you can ask us in your comment to withhold your personal identifying information from public review, we cannot guarantee that we will be able to do so.

The BLM will consult with American Indian Tribes on a government-to-government basis in accordance with Executive Order 13175 and other policies. Tribal concerns, including impacts on Indian trust assets and potential impacts to cultural resources, will be given due consideration.

Federal, State, and local agencies, along with Tribes and other stakeholders that may be interested in or affected by the proposed action that the BLM is evaluating are invited to participate in the scoping process and, if eligible, may request, or be requested by the BLM, to participate in development of the EAs as cooperating agencies.

It is important that reviewers provide their comments at such times and in such manner that they are useful to the BLM. Therefore, comments should be provided prior to the close of the comment period and be clearly articulated.

Comments received in response to this solicitation, including names and addresses of those who comment, will be part of the public record for this proposed action. Comments submitted anonymously will be accepted and considered.

Request for Identification of Potential Alternatives, Information, and Analysis Relevant to the Proposed Action

The BLM invites public comments identifying alternatives, relevant data and information, planning criteria, and issues for analyses pertaining to each RMP amendment.

Planning criteria are the standards, rules, and other factors developed by managers and interdisciplinary team members for use in forming judgements about decision making, analysis, and data collection during the planning process. The BLM has identified some preliminary planning criteria to guide development of the RMP amendments, to avoid unnecessary data collection and analysis, and to ensure the RMP amendments are tailored to the issues. These criteria may be modified and/or other criteria may be identified during the public scoping process. The following preliminary specific planning criteria will help guide the planning process.

Criteria 1: The BLM will observe the principles of multiple use and sustained yield.

Criteria 2: The BLM will use a systematic interdisciplinary approach to integrate physical, biological, economic, and other sciences.

Criteria 3: The BLM will prioritize the designation and protection of ACECs.

Criteria 4: The BLM will use the best available data regarding natural resources.

Criteria 5: The BLM will consider the present and potential uses of public lands and where existing RMP decisions are valid, those decisions will remain unchanged.

Criteria 6: The BLM will consider the relative scarcity of values and availability of alternative means and sites for recognizing those values.

Criteria 7: The BLM will weigh the long-term benefits against short-term benefits.

Criteria 8: The BLM will comply with Tribal, Federal, and State pollution laws, standards, and implementation plans.

Criteria 9: The BLM will seek coordination and consistency with other government programs, plans, and policies.

Lead and Cooperating Agencies

The Council on Environmental Quality regulations provide for and describe both lead and cooperating agency status and emphasize agency cooperation early in the NEPA process. Upon request of the lead agency, any other Federal agency which has jurisdiction by law shall be a cooperating agency. Jurisdiction by law means the other agency has authority to approve, veto, or finance all or part of the proposal. In addition, any other Federal agency which has special expertise with respect to an identified issue may participate as a cooperating agency. Special expertise means “. . . statutory responsibility, agency mission, or related program experience” (40 CFR 1508.26). When the BLM is a lead agency, another agency may request the BLM designate it as a cooperating or joint lead agency. Any State, Tribal, or local agency with jurisdiction by law or special expertise may, by agreement, be a cooperating agency. The BLM has extended cooperating agency status to the following agencies for one or more of the RMP amendments: Ute Indian Tribe; U.S. Bureau of Indian Affairs—Uintah and Ouray Agency; U.S. Fish and Wildlife Service—Utah Field Office; U.S. Fish and Wildlife Service—Jones Hole Fish Hatchery; U.S. Geological Survey; National Park Service—Canyonlands National Park; National Park Service—Dinosaur National Monument; National Park Service—Glen Canyon National Recreation Area; National Park Service—National Natural Landmark Office; Utah Division of Forestry, Fire, and State Lands; Utah Division of Oil, Gas, and Mining; Utah Division of Parks and Recreation; Utah Public Lands Policy Coordinating Office; Utah School and Institutional Trust Lands Administration; Daggett County, UT, Emery County, UT; Grand County, UT; Uintah County, UT; Ballard City, UT; Castle Dale City, UT; Cleveland Town, UT; Duchesne City, UT; Elmo Town, UT; Green River City, UT; Huntington City, UT; Moab City, UT; Naples City, UT; Roosevelt City, UT; and Vernal City, UT.

Decision Maker

The Decision Maker for the RMP amendments is the Bureau of Land Management Utah State Director.

Nature of Decision To Be Made

The decisions resulting from these RMP amendments will specify land management consistent with Public Law 116-9, also known as the Dingell Act.

(Authority: 43 CFR 1610.2, 43 CFR 1610.5-5, and 40 CFR 1506.6)

Gregory Sheehan,
Bureau of Land Management, State Director, Utah.

[FR Doc. 2021-23464 Filed 10-27-21; 8:45 am]

BILLING CODE 4310-DQ-P